DEPARTMENT OF THE INTERIOR

National Park Service

[NPS-WASO-IMR-YELL-NPS0033063; OMB Control Number 1024-0266; PPIMYELL60 POPCF8099.XZ0000 PX.P0315531B.00.1]

Agency Information Collection Activities; Reporting and Recordkeeping for Snow Coaches and Snowmobiles, Yellowstone National Park

AGENCY: National Park Service, Interior.

ACTION: Notice of information collection; request for comment.

SUMMARY: In accordance with the Paperwork Reduction Act of 1995, we, the National Park Service (NPS) are proposing to renew an information collection without change.

DATES: Interested persons are invited to submit comments on or before November 3, 2025.

ADDRESSES: Written comments and suggestions on the information collection requirements should be submitted by the date specified above in DATES to http://www.reginfo.gov/public/do/PRAMain. Find this particular information collection by selecting “Currently under Review—Open for Public Comments” or by using the search function. Please provide a copy of your comments to the NPS Information Collection Clearance Officer (ADIR-ICCO), 13461 Sunrise Valley Drive, (MS-263) Reston, VA 20191. (mail); or phadrea_ponds@nps.gov (email). Please include “1024-0266” in the subject line of your comments.

FOR FURTHER INFORMATION CONTACT: Becky Wyman, Concessions Management Specialist, PO Box 168 Mammoth Hot Springs Yellowstone National Park, WY 82190-0168; or by email at becky_wyman@nps.gov; or by telephone at 307-344-2278. Individuals in the United States who are deaf, deafblind, hard of hearing, or have a speech disability may dial 711 (TTY, TDD, or TeleBraille) to access telecommunications relay services. Individuals outside the United States should use the relay services offered within their country to make international calls to the point of contact in the United States. You may also view the information collection request (ICR) at https://www.reginfo.gov/public/do/PRAMain.

SUPPLEMENTARY INFORMATION: In accordance with the Paperwork Reduction Act of 1995 (PRA, 44 U.S.C. 3501 et seq.) and 5 CFR 1320.8(d)(1), all information collections require approval under the PRA. We may not conduct, or sponsor, and you are not required to respond to a collection of information unless it displays a currently valid Office of Management and Budget (OMB) control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility.

(2) The accuracy of our estimate of the burden for this collection of information, including the validity of the methodology and assumptions used.

(3) Ways to enhance the quality, utility, and clarity of the information to be collected.

(4) How might the agency minimize the burden of the collection of information on those who are to respond, including through the use of appropriate automated, electronic, mechanical, or other technological collection techniques or other forms of information technology, e.g., permitting electronic submission of response.

Comments that you submit in response to this notice are a matter of public record.

We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: A management framework that allows the public to experience the unique winter resources and recreational opportunities at Yellowstone National Park is governed by NPS regulations codified in 36 CFR 7.13, “Yellowstone National Park.” Access to most of the park in the winter is limited by distance and the harsh winter environment which presents challenges to safety and park operations.

In response, the NPS provides opportunities for park visitors to experience Yellowstone in the winter via over-snow vehicles (snowmobiles and snow coaches, collectively OSVs). 36 CFR 7.13 includes provisions that allow greater flexibility for commercial tour operators, provide mechanisms to make the park cleaner and quieter during the winter seasons, reward OSV innovations and technologies, and allow increases in visitation. All OSVs operating in the park are required to meet air and sound emission standards and be accompanied by a guide.

The NPS will use Form 10-650, “OSV Monthly Use Report” to ensure that OSVs meet NPS emission standards to operate in the park. Commercial OSV operators must complete the Form 10-650, “OSV Monthly Use Report” to:

• Transportation Events (§ 7.13(l)(11)(i)-(iii))

• Emission and Sound Standards (§ 7.13(l)(4)(vii) and (5)) and

• Enhanced Emission Standards. (§ 7.13(l)(11)(iv)).

Form 10-650, “OSV Monthly Use Report,” form collects information to: (1) ensure that OSVs meet NPS emission standards to operate in the park; (2) evaluate commercial tour operators' compliance with allocated transportation events and daily and seasonal OSV group size limits; (3) ensure that established daily transportation event limits for the park are not exceeded; (4) confirm that commercial tour operators do not run out of authorizations before the end of the season and create a gap when prospective visitors cannot be accommodated; and (5) guarantee compliance with applicable laws and regulations.

Title of Collection: Reporting and Recordkeeping for Snow coaches and Snowmobiles, Yellowstone National Park.

OMB Control Number: 1024-0266.

Form Number: NPS Form 10-650 “OSV Monthly Use Report.”

Type of Review: Extension of a currently approved collection.

Description of Respondents: Businesses desiring to operate snow coaches and snowmobiles in Yellowstone National Park.

Total Estimated Number of Annual Respondents: 64.

Estimated Completion Time per Response: Varies based on activity: 30 minutes to 2 hours.

Total Estimated Number of Annual Burden Hours: 129 hours.

Respondent's Obligation: Required to obtain or retain a benefit.

Frequency of Collection: On occasion.

Total Estimated Annual Non hour Burden Cost: None.

An agency may not conduct or sponsor and a person is not required to respond to a collection of information unless it displays a currently valid OMB control number.

The authority for this action is the Paperwork Reduction Act of 1995 (44 U.S.C. 3501 et seq.).

Phadrea Ponds,
Information Collection Clearance Officer, National Park Service.

[FR Doc. 2025-16686 Filed 8-29-25; 8:45 am]

BILLING CODE 4312-52-P